DEPARTMENT OF ENERGY

Federal Energy Regulatory Commission

[Docket No. ER00-3090-000]

PJM Interconnection, L.L.C.; Notice of Filing

July 11, 2000.

Take notice that on July 7, 200, PJM Interconnection, L.L.C. (PJM), tendered for filing supplements to the Appendix of Attachment K of the PJM Open Access Transmission Tariff (PJM Tariff) and a supplement to Schedule 1 of the Amended and Restated Operating Agreement of PJM Interconnection, L.L.C., to set forth a Customer Load Reduction Pilot Program to be implemented on a temporary basis to ensure the continued reliability of the electric power system during the summer. For informational purposes, PJM also included its streamlined procedures pursuant to section 36.12 of the PJM Tariff for the interconnection of generation of less than 10 megawatts. In the alternative, to the extent these procedures are considered amendments to the PJM Tariff, PJM proposed these procedures also be accepted for filing.

PJM requests a waiver of the Commission's 60-day notice requirement to permit an effective date of July 8, 2000 for the amendments. PJM also requested that responses to the filing be due on July 17, 2000 and that the Commission issue a final order by July 26, 200.

Copies of this filling were served upon all members of PJM and each state electric utility regulatory commission in the PJM control area.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before July 18, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-17961 Filed 7-14-00; 8:45 am]

BILLING CODE 6717-01-M